DEPARTMENT OF COMMERCE

National Oceanic and Atmospheric Administration

50 CFR Part 648

[Docket No. 250623-0112; RTID 0648-XE999]

Fisheries of the Northeastern United States; Blueline Tilefish Fishery; In-Season Adjustment to the Blueline Tilefish Commercial Possession Limit

AGENCY: National Marine Fisheries Service (NMFS), National Oceanic and Atmospheric Administration (NOAA), Commerce.

ACTION: Temporary rule; in-season adjustment.

SUMMARY: NMFS announces that the commercial per-trip possession limit for the blueline tilefish fishery in the Greater Atlantic Regional Fisheries Office Tilefish Management Unit (i.e., north of the Virginia/North Carolina border) has been reduced for the remainder of the 2025 fishing year. This announcement informs the public of the reduced blueline tilefish possession limit. This action is intended to prevent over-harvest of blueline tilefish commercial quota for the fishing year.

DATES: Effective July 11, 2025 through December 31, 2025.

FOR FURTHER INFORMATION CONTACT: Matthew Rigdon, Fishery Management Specialist, matthew.rigdon@noaa.gov, (978) 281-9336.

SUPPLEMENTARY INFORMATION: Regulations for the blueline tilefish fishery are at 50 CFR part 648. The regulations at § 648.295(b)(2)(i) state that when NMFS projects that blueline tilefish commercial catch will reach 70 percent of the total allowable landings (TAL), the Regional Administrator may reduce the possession limit for the commercial blueline tilefish fishery for the remainder of the fishing year or until 100 percent of the TAL is landed. When this occurs, the blueline tilefish possession limit is reduced from 500 pounds (lb) (226.7 kilograms (kg)) to 300 lb (136.1 kg) per trip in the Tilefish Management Unit. Fish must have head and fins attached, but may be gutted. NMFS monitors the blueline tilefish fishery catch based on dealer reports, state data, and other available information.

The Regional Administrator has determined, based on dealer reports and other available information, that the blueline tilefish commercial fishery has landed 70 percent of the TAL. Upon publication of this action in the Federal Register, vessels may not possess on board or land more than 300 lb (136.1 kg) per trip of blueline tilefish in or from the Greater Atlantic Regional Fisheries Office Tilefish Management Unit through December 31, 2025.

Classification

NMFS issues this action pursuant to section 305(d) of the Magnuson-Stevens Fishery Conservation and Management Act (MSA). This action implements provisions of 50 CFR 648.295, which were issued pursuant to section 304(b) of the MSA, and is exempt from review under Executive Order 12866.

NMFS finds good cause pursuant to 5 U.S.C. 553(b)(B) and (d)(3) to waive prior notice and the opportunity for public comment and the delayed effectiveness period because it would be contrary to the public interest and impracticable. Data and other information indicating the blueline tilefish commercial fishery will have landed 70 percent of the TAL have only recently become available. Landings data are updated by dealer reports on a weekly basis, and NMFS monitors data as catch increases toward the limit. This action is routine and formulaic. The regulations at § 648.295(b)(2)(i) provide for such action to slow down catch as the fishery approaches its TAL, reducing the likelihood that the fishery will need to be shut down before the end of the fishing year, and to help to ensure that blueline tilefish commercial vessels do not exceed the 2025 TAL. If implementation of this action is delayed, the TAL for the 2025 fishing year may be exceeded, thereby undermining the conservation objectives of the Tilefish Fishery Management Plan. In addition, the public had prior notice and full opportunity to comment on this process when the provisions regarding in-season adjustments and the 2025 quota levels were put in place (90 FR 27257, June 26, 2025).

Authority: 16 U.S.C. 1801 et seq.

Dated: July 9, 2025.
Kelly Denit,
Director, Office of Sustainable Fisheries, National Marine Fisheries Service.

[FR Doc. 2025-13002 Filed 7-10-25; 8:45 am]

BILLING CODE 3510-22-P